POSTAL SERVICE

Sunshine Act Meetings; Temporary Emergency Committee of the Board of Governors

TIME AND DATE: Tuesday, September 11, 2018, at 8:30 a.m. and Wednesday, September 12, 2018, at 8:30 a.m.

PLACE: Washington, DC.

STATUS: Closed.

MATTERS TO BE CONSIDERED:

Tuesday, September 11, 2018, at 8:30 a.m.

1. Strategic Items.

2. Executive Session.

Wednesday, September 12, at 8:30 a.m.

1. Strategic Items.

2. Financial Matters.

3. Executive Session.

General Counsel Certification: The General Counsel of the United States Postal Service has certified that these meetings may be closed under the Government in the Sunshine Act.

CONTACT PERSON FOR MORE INFORMATION: Michael J. Elston, Acting Secretary of the Board, U.S. Postal Service, 475 L'Enfant Plaza SW, Washington, DC 20260-1000. Telephone: (202) 268-4800.

Michael J. Elston,
Acting Secretary.

[FR Doc. 2018-20602 Filed 9-18-18; 4:15 pm]

BILLING CODE 7710-12-P